DEPARTMENT OF THE TREASURY

Proposed Collection; Comment Request

AGENCY: Departmental Offices, Department of the Treasury.

ACTION: Notice and request for comments.

SUMMARY: The Department of the Treasury, as part of its continuing effort to reduce paperwork burdens, invites the general public and other Federal agencies to comment on a proposed information collection that will be submitted for approval by the Office of Management and Budget. The Federal Insurance Office (FIO) is monitoring the extent to which traditionally underserved communities and consumers, minorities, and low- and moderate-income persons have access to affordable personal automobile insurance, pursuant to 31 U.S.C. 313(c)(1)(B).

DATES: Written comments must be received not later than September 12, 2016.

ADDRESSES: Please submit comments electronically through the Federal eRulemaking Portal at http://www.regulations.gov, in accordance with the instructions on that site, or by mail (if hard copy, preferably an original and two copies) to the Federal Insurance Office, Attention: Lindy Gustafson, Room 1410 MT, Department of the Treasury, 1500 Pennsylvania Avenue NW., Washington, DC 20220. As postal mail may be subject to processing delay, it is recommended that comments be submitted electronically.

In general, the Department will post all comments to www.regulations.gov without change, including any business or personal information provided such as names, addresses, email addresses, or telephone numbers. The Department also will make comments available for public inspection and copying in the Treasury's Library, 1500 Pennsylvania Avenue NW., Washington, DC 20220, on official business days between the hours of 10:00 a.m. and 5:00 p.m. Eastern Time. You can make an appointment to inspect comments by telephoning 202-622-0990. All comments, including attachments and other supporting materials, are part of the public record and subject to public disclosure. You should submit only information that you wish to make available publicly.

FOR FURTHER INFORMATION CONTACT: Lindy Gustafson, Federal Insurance Office, 202-622-6245 (not a toll-free number).

SUPPLEMENTARY INFORMATION:

OMB Number: 1505-XXXX.

Title: Monitoring the Affordability of Personal Automobile Insurance.

Abstract: Subtitle A of Title V of the Dodd-Frank Wall Street Reform and Consumer Protection Act of 2010 established the Federal Insurance Office (FIO) in the Department of the Treasury and, among other things, authorizes FIO to monitor the extent to which traditionally underserved communities and consumers, minorities, and low- and moderate-income persons (collectively, Affected Persons) have access to affordable insurance products regarding all lines of insurance other than health insurance. Under this authority, FIO is monitoring the availability and affordability of personal automobile liability insurance for Affected Persons, as detailed in notices previously published in the Federal Register. See 79 FR 19969 (April 10, 2014) and 80 FR 38277 (July 2, 2015). FIO will be continuing to review publicly available data. In addition, FIO will be reviewing data from statistical agents. Pursuant to this Notice, FIO also intends to request that insurers that have a statutory surplus greater than $500 million at the end of the preceding calendar year, and annually write more than $500 million of premium for personal automobile insurance (collectively, Large Insurers), voluntarily provide premium data, to statistical agents designated by FIO, for further analysis by FIO.

Type of Review: New data collection.

Affected Public: Large Insurers; statistical agents.

Estimated Number of Respondents: 40.

Estimated Average Time per Respondent: Not to exceed 50 hours.

Estimated Total Annual Burden Hours: Not to exceed 2,000 hours.

Request for Comments: An agency may not conduct or sponsor, and a person is not required to respond to, a collection of information unless the collection of information displays a valid OMB control number. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information collection; (d) ways to minimize the burden of the collection of information on respondents, including through the use of automated collection techniques or other forms of information technology; and (e) estimates of capital or start-up costs and costs of operation, maintenance, and purchase of services to provide information.

Michael T. McRaith,
Director, Federal Insurance Office.

[FR Doc. 2016-16537 Filed 7-12-16; 8:45 am]

BILLING CODE 4810-25-P